ENVIRONMENTAL PROTECTION AGENCY

[EPA-HQ-OPP-2006-0660; FRL-8299-7]

Agency Information Collection Activities; Submission to OMB for Review and Approval; Comment Request; Pesticide Product Registration Maintenance Fee, EPA ICR Number 1214.07, OMB Control Number 2070-0100

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. The ICR, which is abstracted below, describes the nature of the information collection activity and its expected burden and costs.

DATES: Additional comments may be submitted on or before May 16, 2007.

ADDRESSES: Submit your comments, referencing Docket ID No. EPA-HQ-OPP-2006-0660, to (1) EPA online using www.regulations.gov (our preferred method), by e-mail to opp.ncic@epa.gov, or by mail to: OPP Regulatory Public Docket (7502P), Office of Pesticide Programs (OPP), Environmental Protection Agency, 1200 Pennsylvania Ave., NW., Washington, DC 20460-0001, and (2) OMB by mail to: Office of Information and Regulatory Affairs, Office of Management and Budget (OMB), Attention: Desk Officer for EPA, 725 17th Street, NW., Washington, DC 20503.

FOR FURTHER INFORMATION CONTACT: Joseph Hogue, Field and External Affairs Division, Office of Pesticide Programs, 7506P, Environmental Protection Agency, 1200 Pennsylvania Ave., NW., Washington, DC 20460; telephone number: 703-308-9072; fax number: 703-305-5884; email address: hogue.joe@epa.gov.

SUPPLEMENTARY INFORMATION: EPA has submitted the following ICR to OMB for review and approval according to the procedures prescribed in 5 CFR 1320.12. On October 25, 2006 (71 FR 62432), EPA sought comments on this ICR pursuant to 5 CFR 1320.8(d). EPA received no comments on this ICR during the 60-day comment period. Any additional comments on this ICR should be submitted to EPA and OMB within 30 days of this notice.

EPA has established a public docket for this ICR under Docket ID No. EPA-HQ-OPP-2006-0660, which is available for online viewing at http://www.regulations.gov, or in person viewing at the OPP Regulatory Public Docket in Rm. S-4400, One Potomac Yard (South Building), 2777 S. Crystal Drive, Arlington, VA. This docket facility is open from 8:30 a.m. to 4 p.m., Monday through Friday, excluding legal holidays. The docket telephone number is (703) 305-5805.

Use EPA's electronic docket and comment system at http://www.regulations.gov, to submit or view public comments, access the index listing of the contents of the docket, and to access those documents in the docket that are available electronically. Once in the system, select “docket search,” then key in the Docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Pesticide Product Registration Maintenance Fee.

ICR Status: This is a request to renew an existing approved collection. This ICR is scheduled to expire on May 31, 2007. Under OMB regulations, the Agency may continue to conduct or sponsor the collection of information while this submission is pending at OMB. This ICR describes the nature of the information collection and its estimated burden and cost.

Abstract: This information collection provides a practical means of communication between the registrants and Environmental Protection Agency's Office of Pesticide Programs (OPP) to collect registration maintenance fees from pesticide registrants as required by the Federal Insecticide, Fungicide, and Rodenticide Act (FIFRA), Section 4(i)(5). Annually, the Agency provides registrants a list of the registered products currently registered with the Agency. Registrants are provided the opportunity to review the list, determine its accuracy, and remit payment of the maintenance fees. Each affected firm is required to complete the filing form and submit their fee payment by January 15 of each year. The failure to pay the required fee for a product will result in cancellation of that product's registration. Information submitted under this ICR is considered by OPP to contain no confidential business information (CBI). If, however, registrants submit data that contains CBI or relates to trade secrets or commercial or financial information, such information is protected from disclosure under section 10 of FIFRA.

Burden Statement: The annual public reporting and recordkeeping burden for this collection of information is estimated to average 0.96 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: All pesticide registrants holding currently active registrations under FIFRA section 3 and Section 24(c) are subject to this information collection activity.

Estimated Number of Respondents: 1,720.

Frequency of Response: Annually.

Estimated Total Annual Hour Burden: 1645.

Estimated Total Annual Labor Cost: $125,800.

Changes in the Estimates: There is a decrease of 118 hours in the total estimated burden currently identified in the OMB Inventory of Approved ICR Burdens. This is an adjustment in the estimated burden due to the steady decline of the number of pesticide registrants and, therefore, participation under this program.

Dated: April 6, 2007.
Robert Gunter,
Acting Director, Collection Strategies Division.

[FR Doc. E7-7173 Filed 4-13-07; 8:45 am]

BILLING CODE 6560-50-P